COMMITTEE FOR PURCHASE FROM PEOPLE WHO ARE BLIND OR SEVERELY DISABLED

Procurement List; Proposed Additions and Deletions

AGENCY: Committee for Purchase From People Who Are Blind or Severely Disabled.

ACTION: Proposed Deletions from the Procurement List.

SUMMARY: The Committee is proposing to delete services previously furnished by such agencies.

DATES: Comments must be received on or before: August 11, 2019.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following services are proposed for deletion from the Procurement List:

Services

Service Type: Remanufacturing HP4 Laser Toner Cartridges

Mandatory for: Malmstrom Air Force Base, MT

Mandatory Source of Supply: Community Option Resource Enterprises, Inc. (COR Enterprises), Billings, MT

Contracting Activity: Dept of the Air Force, FA7014 AFDW PK

Service Type: Janitorial/Custodial

Mandatory for: Coeur d'Alene Nursery, 3600 Nursery Road, Coeur d'Alene, ID

Mandatory Source of Supply: Skils'kin, Spokane, WA

Contracting Activity: Forest Service, Idaho Panhandle NF

Service Type: Administrative Services

Mandatory for: Social Security Administration: Active Files Unit, Philadelphia, PA

Mandatory Source of Supply: Elwyn, Aston, PA

Contracting Activity: Health and Human Services, Department of, HHS

Service Type: Rehabilitation Support Services

Mandatory for: Central Arkansas Veterans Healthcare System, North Little Rock, AR

Mandatory Source of Supply: Pathfinder, Inc., Jacksonville, AR

Contracting Activity: Veterans Affairs, Department of, NAC

Service Type: Janitorial/Custodial

Mandatory for: US Army Reserve, 1LT James McConnell USARC, Liverpool, NY

Mandatory Source of Supply: Oswego Industries, Inc., Fulton, NY

Contracting Activity: Dept of the Army, W6QK ACC-PICA

Patricia Briscoe,
Deputy Director, Business Operations (Pricing and Information Management).

[FR Doc. 2019-14819 Filed 7-11-19; 8:45 am]

BILLING CODE 6353-01-P